ELECTION ASSISTANCE COMMISSION

Notice of Request for Extension and Revision of a Currently Approved Information Collection

AGENCY: U.S. Election Assistance Commission (EAC).

ACTION: Notice and request for comments.

SUMMARY: In accordance with the Paperwork Reduction Act of 1995, this notice announces the U.S. Election Assistance Commission's (EAC) intention to request an extension and revision of a currently approved collection. The information collection was previously published in the Federal Register on January 24, 2007, at 72 FR 3127. The notice allowed for a 60-day public comment period. No comments were received on this information collection. The purpose of this notice is to allow an additional 30 days for public comments. Comments are encouraged and will be accepted until April 27, 2007. This process is conducted in accordance with 5 CFR 1320.10. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Written comments must be submitted on or before April 27, 2007.

ADDRESSES: Written comments and recommendations on the proposed information collection should be sent to OMB Reviewer: Alexander T. Hunt, Office of Management and Budget, Room 10235, New Executive Office Building, Washington, DC 20503, (202) 395-7316.

FOR FURTHER INFORMATION CONTACT: To request more information on this proposed information collection or to obtain a copy of the proposal and associated collection instruments, please write to the above address or call Mr. Brian Hancock at (202) 566-3100.

SUPPLEMENTARY INFORMATION: Title: EAC Voting System Testing and Certification Program Manual.

OMB Number: 3265-0004.

Type of Review: Extension with change of a currently approved collection.

Needs and Uses: HAVA requires that the EAC certify and decertify voting systems (42 U.S.C. 15371). Section 231(a)(1) of HAVA specifically requires the EAC to “* * * provide for the certification, decertification and recertification of voting system hardware and software by accredited laboratories.” The EAC will perform this mandated function through the use of its Voting System Testing and Certification Program. Voting systems certified by the EAC will be used by citizens to cast votes in Federal Elections. Therefore, it is paramount that the program operates in a reliable and effective manner. In order to certify a voting system, it is necessary for the EAC to (1) Require voting system manufacturers to submit information about their organization and the voting systems they submit for testing and certification; (2) require voting system manufacturers to retain voting system technical and test records; and (3) to provide a mechanism for election officials to report events which may effect a voting system's certification.

Affected Public: Business or other for-profit institutions and state and local election officials.

Estimated Number of Respondents: 94 annually.

Total Annual Responses: 99 annually.

Estimated Total Annual Burden Hours: 119 hours.

Donetta L. Davidson,
Chair, U.S. Election Assistance Commission.

[FR Doc. 07-1556 Filed 3-29-07; 8:45 am]

BILLING CODE 6820-KF-M